DEPARTMENT OF LABOR

Employment and Training Administration

[TA-W-60,072]

MJJ Brilliant Jewelers Inc.; New York, NY; Notice of Termination of Investigation

Pursuant to section 221 of the Trade Act of 1974, an investigation was initiated on September 13, 2006 in response to a petition filed on behalf of workers at MJJ Brilliant Jewelers Inc., New York, New York. The subject firm is a jewelry wholesaler and does not manufacture jewelry.

Two of the three petitioning workers were separated well before the impact date of September 12, 2005. Therefore, the petition regarding the investigation has been deemed invalid. Consequently, the investigation has been terminated.

Signed in Washington, DC, this 29th day of September, 2006.
Richard Church,
Certifying Officer, Division of Trade Adjustment Assistance.

[FR Doc. E6-17112 Filed 10-13-06; 8:45 am]

BILLING CODE 4510-30-P